DEPARTMENT OF TRANSPORTATION

Research and Special Programs Administration

Office of Hazardous Materials Safety; Notice of Application for Exemptions

AGENCY: Research and Special Programs Administration, DOT.

ACTION:

List of applications for exemption.

SUMMARY: In accordance with the procedures governing the application for, and the processing of, exemptions from the Department of Transportation's Hazardous Material Regulations (49 CFR Part 107, Subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before January 30, 2004.

ADDRESS: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW, Washington DC or at http://dms.dot.gov.

This notice of receipt of applications for modification of exemption is published in accordance with Part 107 of the Federal hazardous materials transportation law (49 U.S.C. 5117(b); 49 CFR 1.53(b)).

Issued in Washington, DC, on December 24, 2003.
R. Ryan Posten,
Exemptions Program Officer, Office of Hazardous Materials, Exemptions & Approvals.

New Exemption
Application No. | Docket No. | Applicant | Regulation(s) affected | Nature of exemption thereof
13341-N |  | National Propane Gas Association Washington, DC | 49 CFR 173.315(j)(4) | To authorize the one-way transportation in commerce of certain non-DOT specification storage tanks containing propane. (mode 1).
13343-N |  | Olin Corporation, Winchester Division, East Alton, IL | 49 CFR 173-60(b)(4); 177.834(1)(1) | To authorize the transportation in commerce of trinitroresorcinol, wetted, Class 1.1D, packaged in accordance with the required packaging instruction in motor vehicles equipped with heating and refrigerating (heat-pump) apparatus. (mode 1).
13344-N |  | Precision Technik, Atlanta, GA | 49 CFR 173.301(a)(f)(1); 180.209; 173.201; 173.202; 173.203; 173.302; 173.304 | To authorize the manufacture, marking and sale of a salvage cylinder which do not contain a pressure relief device for use in transporting damaged or leaking gas cylinder. (mode 1).
13347-N |  | ShipMate, Inc., Torrance, CA | 49 CFR 172.301; 172.401; 173.201; 173.202; 172.203(a); 172.301(c) | To authorize the transportation in commerce of certain unmarked, unlabeled, hazardous materials in single packagings or inner receptacles of combination packagings, placed in properly marked and labeled non-specification devices. (mode 1).
13336-N |  | Renaissance Industries, Sparpsville, PA | 49 CFR 173.302(a)(1); 173.304; 175.3 | To authorize the manufacture, mark, sale and use of a non-DOT specifications cylinder for use in transporting certain classes of hazardous materials. (modes 1, 2, 3, 4, 5).
13337-N |  | Albemarle Corporation, Baton Rouge, LA | 49 CFR 176.83(b)&(d) | To authorize the transportation in commerce of certain cylinders, non-bulk packaging and small portable tanks containing various Division 4.2 and 4.3 materials without meeting segregation requirements. (mode 3).
13338-N |  | Sacramento Municipal Utility District, Herald, CA | 49 CFR 173.403; 173.427(a), (b)& (c); 173.465(c)&(d) | To authorize the transportation in commerce of two steam generators having a Class 7 radioactive material on its surfaces. (mode 2).
13339-N |  | ExxonMobil Chemical Company, Mont Belvieu, TX | 49 CFR 173.242 | To authorize the transportation in commerce of certain pyrophoric solids in non-DOT specification portable tanks comparable to DOT Specification 51 portable tanks with alternative testing criteria. (mode 1).

[FR Doc. 03-32195 Filed 12-30-03; 8:45 am]

BILLING CODE 4909-60-M